DEPARTMENT OF DEFENSE

Department of the Air Force

[Docket No. AFD 1563PCT]

Notice of Availability of Government-Owned Inventions; Foreign Patent Rights Available

AGENCY: Department of the Air Force, Department of Defense.

ACTION: Notice of availability.

SUMMARY: Pursuant to the Bayh-Dole Act and implementing regulations, the Department of the Air Force hereby gives notice of availability of foreign patent rights associated with International Patent Application No. PCT/US17/036023, published as WO 2017/0214069, entitled FLOW RATE CONTROL DEVICE FOR VARIABLE INTRA-AORTIC OCCLUSION.

ADDRESSES: Submit requests for information to the ORTA, 60th MDG, 101 Bodin Circle, Travis AFB, CA 94535; Facsimile: (228) 376-0128; or Mr. John Tupin, (707) 423-7206. Include Docket No. AFD 1563PCT in the subject line of the message.

FOR FURTHER INFORMATION CONTACT: ORTA, 60th MDG, 101 Bodin Circle, Travis AFB, CA 94535; Facsimile: (228) 376-0128; Mr. John Tupin, (707) 423-7206; or Air Force Materiel Command Law Office, AFMCLO/JAZ, 2240 B Street, Rm. 260, Wright-Patterson AFB, OH 45433-7109; Facsimile: (937) 255-3733; Email: afmclo.jaz.tech@us.af.mil.

SUPPLEMENTARY INFORMATION: The claimed endovascular variable aortic control catheter is configured to augment upstream blood pressure and regulate downstream blood flow for patients in shock. The device includes a catheter-based system having a proximal hand piece for controlled deployment of the device through a delivery sheath. A collapsible, wire framework supports an expandable and collapsible occlusion barrier. The wire framework and occlusion barrier expand to fit within the lumen of the aorta. Various movable elements are used to adjust an adjustable passageway to regulate controlled anterograde blood flow.

Authority: 35 U.S.C. 209; 37 CFR 404.

Henry Williams,
Civ, DAF, Acting Air Force Federal Register Liaison Officer.

[FR Doc. 2018-21606 Filed 10-4-18; 8:45 am]

BILLING CODE 5001-10-P